DEPARTMENT OF ENERGY

Federal Energy Regulatory Commission

[Project No. 14372-000]

Grand Coulee Project Hydroelectric Authority; Notice of Preliminary Permit Application Accepted for Filing and Soliciting Comments, Motions To Intervene, and Competing Applications

On March 13, 2012, Grand Coulee Project Hydroelectric Authority filed an application for a preliminary permit, pursuant to section 4(f) of the Federal Power Act (FPA), proposing to study the feasibility of the Rocky Coulee Wasteway Hydroelectric Project (project) to be located on the Rocky Coulee Wasteway near Moses Lake in Grant County, Washington. The sole purpose of a preliminary permit, if issued, is to grant the permit holder priority to file a license application during the permit term. A preliminary permit does not authorize the permit holder to perform any land-disturbing activities or otherwise enter upon lands or waters owned by others without the owners' express permission.

The proposed project would consist of two developments, the Upper Chute and the Lower Chute.

Upper Chute Development

The Upper Chute development is below the headworks of the wasteway and would consist of the following: (1) A concrete intake diversion canal leading to an intake gate structure; (2) a 10-foot-diameter steel penstock extending approximately 1,450 feet from the intake structure to a powerhouse; (3) a powerhouse with one generating unit rated at 5.2 megawatts (MW) at 80 feet of average head, discharging directly back to the wasteway; (4) a 13-kilovolt (kV), 2,000-foot-long transmission line extending from the powerhouse to a transmission line owned by the Public Utility District of Grant County (Grant PUD) (the point of interconnection); and (5) appurtenant facilities.

Lower Chute Development

The Lower Chute development is at mile 3.8 of the wasteway and would consist of the following: (1) A concrete intake diversion canal leading to an intake gate structure; (2) a 10-foot-diameter steel penstock extending approximately 750 feet from the intake structure to a powerhouse; (3) a powerhouse with one generating unit rated at 6.8 MW at 105 feet of average head, discharging directly back to the wasteway; (4) a 13.8-kV, 800-foot-long transmission line extending from the powerhouse to a transmission line owned by Grant PUD (the point of interconnection); and (5) appurtenant facilities. The estimated annual generation of both developments would be 16,900 megawatt-hours.

Applicant Contact: Mr. Ronald K. Rodewald, Secretary-Manager, Grand Coulee Project Hydroelectric Authority, PO Box 219, Ephrata, Washington 98823; phone: (509) 754-2227.

FERC Contact: Kim Nguyen; phone: (202) 502-6105.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14372) in the docket number field to access the document. For assistance, contact FERC Online Support.

Dated: April 11, 2012.
Kimberly D. Bose,
Secretary.

[FR Doc. 2012-9274 Filed 4-17-12; 8:45 am]

BILLING CODE 6717-01-P